DEPARTMENT OF COMMERCE

Foreign-Trade Zones Board

[Order No. 1530]

Reorganization and Expansion of Foreign-Trade Zone 138; Columbus, OH, Area

Pursuant to its authority under the Foreign-Trade Zones Act of June 18, 1934, as amended (19 U.S.C. 81a-81u), the Foreign-Trade Zones Board (the Board) adopts the following Order:

Whereas, the Columbus Regional Airport Authority, grantee of Foreign-Trade Zone 138, submitted an application to the Board for authority to modify and restore acreage to Site 1A; to expand Site 1E and incorporate Temporary Site 6 on a permanent basis; to reorganize Areas 3 & 4 and remove Area 6 within Site 1G; to expand Site 4 to restore acreage and incorporate Temporary Site 4A on a permanent basis; to expand Site 7 to restore acreage and incorporate Temporary Site 8 on a permanent basis; to make Temporary Site 1 permanent as Site 12; to make Temporary Site 2 permanent as Site 13; to make Temporary Site 5 permanent as Site 14 and expand to include additional acreage; and, to make Temporary Site 7 permanent as Site 15 and expand to include additional acreage, within and adjacent to the Columbus Customs and Border Protection port of entry (FTZ Docket 5-2007; filed 2/6/07);

Whereas, notice inviting public comment was given in the Federal Register (72 FR 7403, 2/15/07) and the application has been processed pursuant to the FTZ Act and the Board's regulations; and,

Whereas, the Board adopts the findings and recommendations of the examiner's report, and finds that the requirements of the FTZ Act and Board's regulations are satisfied, and that the proposal is in the public interest; Now, therefore, the Board hereby orders:

The application to reorganize and expand FTZ 138 is approved, subject to the FTZ Act and the Board's regulations, including Section 400.28, and further subject to the Board's standard 2,000-acre activation limit for the overall zone project, and further subject to sunset provisions that would terminate authority on December 31, 2008, for Sites 1G and 7, and would terminate authority on December 31, 2011, for Site 15, where no activity has occurred under FTZ procedures before those dates.

Signed at Washington, DC, this 2nd day of November 2007.
David M. Spooner,
Assistant Secretary of Commerce for Import Administration, Alternate Chairman, Foreign-Trade Zones Board.
Attest:
Andrew McGilvray,
Executive Secretary.

[FR Doc. E7-22762 Filed 11-20-07; 8:45 am]

BILLING CODE 3510-DS-P